DEPARTMENT OF THE INTERIOR

Bureau of Land Management

[NV-910-03-0777-30]

Notice of Public Meeting, Northeastern Great Basin Resource Advisory Council Meeting

AGENCY: Bureau of Land Management, Interior.

ACTION: Notice of public meeting for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below.

DATES: The meeting includes a public comment meeting on August 18, 2003, 7 p.m. at the Hilton Garden Inn, 3560 East Idaho Street, Elko, Nevada. The purpose of the public meeting is for the RAC to receive public comment about the Sustaining Working Landscapes policy. The business meeting will be held August 19, 2003, at the BLM Elko Field Office beginning at 9 a.m. The public comment period will begin at approximately 1 p.m. and the meeting will adjourn approximately 5 p.m.

FOR FURTHER INFORMATION CONTACT: Mike Brown, Public Affairs Officer, Elko Field Office, 3900 East Idaho Street, Elko, NV 89801. Telephone: (775) 753-0386. E-mail: mbrown@nv.blm.gov.

SUPPLEMENTARY INFORMATION: The 15-member Council advises the Secretary of the Interior, through the Bureau of Land Management, on a variety of planning and management issues associated with public land management in Nevada. At the business meeting, topics to be discussed include: Sustaining Working Landscapes, Ely Field Office Resource Management Plan, Vegetation Draft Guidelines, Mining Update, California National Historic Trail Interpretive Center, Field Managers' and District Rangers' Reports, Other topics the Council may raise.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact Mike Brown, BLM Elko Field Office, 3900 East Idaho Street, Elko, Nevada 89801, telephone (775) 753-0386.

Dated: June 25, 2003.
Helen M. Hankins,
Field Manager.

[FR Doc. 03-17155 Filed 7-7-03; 8:45 am]

BILLING CODE 4310-HC-P